ELECTION ASSISTANCE COMMISSION

Meeting Notice

AGENCY: U.S. Election Assistance Commission.

ACTION: Notice of Public Quarterly Conference Call for EAC Board of Advisors.

DATES: Monday, March 4, 2019, 2:00-4:00 p.m. (EDT).

ADDRESSES: EAC Board of Advisers Quarterly Conference Call.

To listen and monitor the event as an attendee:

1. Go to: https://eacevents.webex.com/eacevents/onstage/g.php?MTID=ecd5fd22ff87ff50c91e0babeeec7ca42.

2. Click “Join Now”.

To join the audio conference only:

1. To receive a call back, provide your phone number when you join the event, or

2. call the number below and enter the access code. US TOLL FREE: +1-855-892-3345, US TOLL: +1-415-527-5035, Access code: 905 314 545 (See toll-free dialing restrictions at https://www.webex.com/pdf/tollfree_restrictions.pdf).

For assistance: Contact the host, Mark Abbott at mabbott@eac.gov.

Purpose: In accordance with the Federal Advisory Committee Act (FACA), Public Law 92-463, as amended (5 U.S.C. Appendix 2), the U.S. Election Assistance Commission (EAC) Board of Advisors will conduct a conference call to discuss current EAC activities.

Agenda: The Board of Advisors (BOA) will receive updates from EAC staff and BOA officers regarding EAC activities; the 2019 BOA Conference; Remarks from new Commissioners; and BOA Committee/Sub-Committee Updates. The Board of Advisors will receive updates from the following BOA Committees: Resolutions; Voluntary Voting System Guidelines (VVSG); By-Laws; and Strategic Planning. The Board of Advisors will discuss the next Quarterly BOA Conference Call. There will be no votes conducted on this call.

SUPPLEMENTARY INFORMATION: Members of the public may submit relevant written statements to the Board of Advisors with respect to the meeting no later than 10:00 a.m. EDT on Monday, March 4, 2019. Statements may be sent via email to facaboards@eac.gov, via standard mail addressed to the U.S. Election Assistance Commission, 1335 East West Highway, Suite 4300, Silver Spring, MD 20910, or by fax at 301-734-3108.

This conference call will be open to the public.

FOR FURTHER INFORMATION CONTACT: Bert Benavides, Telephone: (301) 563-3937.

Brenda J. Soder,
Director of Communications and Public Affairs, U.S. Election Assistance Commission.

[FR Doc. 2019-03455 Filed 2-27-19; 8:45 am]

BILLING CODE 6820-KF-P